NATIONAL AERONAUTICS AND SPACE ADMINISTRATION

[Notice (10-114)]

PNT Advisory Board; Meeting

AGENCY: National Aeronautics and Space Administration.

ACTION: Notice of Meeting.

SUMMARY: In accordance with the Federal Advisory Committee Act, Public Law 92-463, as amended, the National Aeronautics and Space Administration announces a meeting of the National Space-Based Positioning, Navigation, and Timing (PNT) Advisory Board.

DATES: Thursday, October 14, 2010, 9 a.m. to 5 p.m., and Friday, October 15, 2010, 9 a.m. to 1 p.m.

ADDRESSES: Omni Shoreham Hotel, 2500 Calvert Street, NW. (at Connecticut Ave.), Hampton Ballroom, Washington, DC 20008, Phone: (202) 234-0700, Fax: (202) 265-7972.

FOR FURTHER INFORMATION CONTACT: Mr. James J. Miller, Space Communications and Navigation Program, Space Operations Mission Directorate, National Aeronautics and Space Administration Headquarters, Washington, DC 20546, Phone 202-358-4417.

SUPPLEMENTARY INFORMATION: The meeting will be open to the public up to the seating capacity of the room. It is imperative that the meeting be held on this date to accommodate the scheduling priorities of the key participants. Visitors will be requested to sign a visitor's register. The agenda for this meeting will include discussion topics:

• Update on U.S. Space-Based Positioning, Navigation and Timing (PNT) Policy and Global Positioning System (GPS) modernization.

• Explore opportunities for enhancing the interoperability of GPS with other emerging international Global Navigation Satellite Systems (GNSS).

• Examine emerging trends and requirements for PNT services in U.S. and international arenas through PNT Board technical assessments.

• Prioritize current and planned GPS capabilities and services while assessing future PNT architecture options.

• Review GPS Standard Positioning Service Performance Standards and effects on non-ICD compliant receivers.

• Address future challenges to PNT service providers and users such as protecting the emerging role of PNT in cyber networks, including the need for back-ups.

Dated: September 24, 2010.
P. Diane Rausch,
Advisory Committee Management Officer, National Aeronautics and Space Administration.

[FR Doc. 2010-24466 Filed 9-28-10; 8:45 am]

BILLING CODE P